DEPARTMENT OF EDUCATION

Applications for New Awards; Education Innovation and Research (EIR) Program—Mid-phase Grants

AGENCY: Office of Elementary and Secondary Education, Department of Education.

ACTION: Notice.

SUMMARY: The Department of Education (Department) is issuing a notice inviting applications for fiscal year (FY) 2020 for the EIR program—Mid-phase Grants, Catalog of Federal Domestic Assistance (CFDA) number 84.411B (Mid-phase Grants). This notice relates to the approved information collection under OMB control number 1894-0006.

DATES:

Applications Available: April 13, 2020.

Deadline for Notice of Intent to Apply: April 30, 2020.

Deadline for Transmittal of Applications: June 15, 2020.

Deadline for Intergovernmental Review: August 14, 2020.

Pre-Application Information: The Department will post additional competition information for prospective applicants on the EIR program website: https://oese.ed.gov/offices/office-of-discretionary-grants-support-services/innovation-early-learning/education-innovation-and-research-eir.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Ashley Brizzo, U.S. Department of Education, 400 Maryland Avenue SW, Room 3E325, Washington, DC 20202-5900, Telephone: (202) 453-7122, Email: eir@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The EIR program, established under section 4611 of the Elementary and Secondary Education Act, as amended (ESEA), provides funding to create, develop, implement, replicate, or take to scale entrepreneurial, evidence-based, field-initiated innovations to improve student achievement and attainment for high-need students; and rigorously evaluate such innovations. The EIR program is designed to generate and validate solutions to persistent education challenges and to support the expansion of those solutions to serve substantially larger numbers of students.

The central design element of the EIR program is its multi-tier structure that links the amount of funding an applicant may receive to the quality of the evidence supporting the efficacy of the proposed project, with the expectation that projects that build this evidence will advance through EIR's grant tiers: “Early-phase,” “Mid-phase,” and “Expansion.” Applicants proposing innovative practices that are supported by limited evidence can receive relatively small grants to support the development, implementation, and initial evaluation of the practices; applicants proposing practices supported by evidence from rigorous evaluations, such as an experimental study (as defined in this notice), can receive larger grant awards to support expansion across the country. This structure provides incentives for applicants to: (1) Explore new ways of addressing persistent challenges that other educators can build on and learn from; (2) build evidence of effectiveness of their practices; and (3) replicate and scale successful practices in new schools, districts, and States while addressing the barriers to scale, such as cost structures and implementation fidelity.

All EIR projects are expected to generate information regarding their effectiveness in order to inform EIR grantees' efforts to learn about and improve upon their efforts, and to help similar, non-EIR efforts across the country benefit from EIR grantees' knowledge. By requiring that all grantees conduct independent evaluations of their EIR projects, EIR ensures that its funded projects make a significant contribution to improving the quality and quantity of information available to practitioners and policymakers about which practices improve student achievement and attainment, for which types of students, and in what contexts.

In prior years, the Department has awarded three types of grants under this program: “Early-phase” grants, “Mid-phase” grants, and “Expansion” grants. For FY 2020, the Department will award two types of grants: “Early-phase” grants and “Mid-phase” grants. These grants differ in terms of the level of prior evidence of effectiveness required for consideration for funding, the expectations regarding the kind of evidence and information funded projects should produce, the level of scale funded projects should reach, and, consequently, the amount of funding available to support each type of project.

The Department expects that Mid-phase grants will be used to fund implementation and a rigorous evaluation of a program that has been successfully implemented under an Early-phase grant or other effort meeting similar criteria, for the purpose of measuring the program's impact and cost-effectiveness, if possible using existing administrative data. Mid-phase grants are supported by evidence that demonstrates a statistically significant effect on improving student outcomes or other relevant outcomes (as defined in this notice) based on moderate evidence (as defined in this notice) from at least one well-designed and well-implemented experimental study or quasi-experimental design study (as defined in this notice) for at least one population or setting, and grantees are encouraged to implement at the regional level (as defined in this notice) or at the national level (as defined in this notice). This notice invites applications for Mid-phase grants only. The notice inviting applications for Early-phase grants will be published in the Federal Register at a later date.

Background: While this notice is for the Mid-phase tier only, the premise of the EIR program is that new and innovative programs and practices can help to solve the persistent problems in education that prevent students, particularly high-need students, from succeeding. These innovations need to be evaluated, and if sufficient evidence of effectiveness can be demonstrated, the intent is for these innovations to be replicated and tested in new populations and settings. EIR is not intended to provide support for practices that are already commonly implemented by educators, unless significant adaptations of such practices warrant testing to determine if they can accelerate achievement, or greatly increase the efficiency and likelihood that they can be widely implemented in a variety of new populations and settings effectively.

As an EIR project is implemented, grantees are encouraged to learn more about how the practices improve student achievement and attainment; and to develop increasingly rigorous evidence of effectiveness and new strategies to efficiently and cost-effectively scale to new school districts, regions, and States. We encourage applicants to develop a logic model (as defined in this notice), theory of action, or another conceptual framework that includes the goals, objectives, outcomes, and key project components (as defined in this notice) of the project.

Disseminating evaluation findings is a critical element of every project, even if a rigorous evaluation does not demonstrate positive results. Such results can influence the next stage of education practice and promote follow-up studies that build upon the results. The EIR program considers all high-quality evaluations to be a valuable contribution to the field of education research and encourages the documentation and sharing of lessons learned.

For those innovations that have positive results and have the potential for continued development and implementation, the Department is interested in learning more about continued efforts regarding cost-effectiveness and feasibility when scaled to additional populations and settings. EIR projects at the Mid-phase level are encouraged to test new strategies for recruiting and supporting new project adoption, seek efficiencies where project implementation has been too costly or cumbersome to operate at scale, and test new ways of overcoming any other barriers in practice or policy that might inhibit project growth.

Finally, all EIR applicants and grantees should consider how they need to develop their organizational capacity, project financing, or business plans to sustain their projects and continue implementation and adaptation after Federal funding ends. EIR encourages all grantees to engage in sustainability planning as part of a funded project. The Department intends to provide grantees with technical assistance in their dissemination, scaling, and sustainability efforts.

Mid-phase projects are expected to refine and expand the use of practices with prior evidence of effectiveness in order to improve outcomes for high-need students. They are also expected to generate important information about an intervention's effectiveness, including for whom and in which contexts a practice is most effective, as well as cost-effective. Mid-phase projects are uniquely positioned to help answer critical questions about the process of scaling a practice to the regional or national levels across geographies. Mid-phase grantees are encouraged to consider how the cost structure of a practice can change as the intervention scales. Additionally, grantees may want to consider multiple ways to facilitate implementation fidelity without making scaling too onerous.

Mid-phase applicants are encouraged to design an evaluation that has the potential to meet the strong evidence (as defined in this notice) threshold. Mid-phase grantees should measure the cost-effectiveness of their practices using administrative or other readily available data. These types of efforts are critical to sustaining and scaling EIR-funded effective practices after the EIR grant period ends, assuming that the practice has positive effects on important student outcomes. In order to support adoption or replication by other entities, the evaluation of a Mid-phase project should identify and codify the core elements of the EIR-supported practice that the project implements, and examine the effectiveness of the project for any new populations or settings that are included in the project. The Department intends to provide grantees and their independent evaluators with evaluation technical assistance. This evaluation technical assistance could include grantees and their independent evaluators providing to the Department or its contractor updated comprehensive evaluation plans in a format as requested by the technical assistance provider and using such tools as the Department may request. Grantees will be encouraged to update this evaluation plan at least annually to reflect any changes to the evaluation, with updates consistent with the scope and objectives of the approved application.

The FY 2020 Mid-phase competition includes three absolute priorities. All Mid-phase applicants must address Absolute Priority 1. Mid-phase applicants are also required to address one of the other two absolute priorities. The absolute priorities align with the purpose of the program and the Administration's priorities.

Absolute Priority 1—Moderate Evidence, establishes the evidence requirement for this tier of grants. All Mid-phase applicants must submit prior evidence of effectiveness that meets the moderate evidence standard.

Absolute Priority 2—Field-Initiated Innovations—Science, Technology, Engineering, or Math (STEM), is intended to highlight the Administration's efforts to ensure our Nation's economic competitiveness by improving and expanding STEM learning and engagement, including computer science (as defined in this notice).

In Absolute Priority 2, the Department recognizes the importance of funding Pre-Kindergarten (Pre-K) through grade 12 STEM education and anticipates that projects would expand opportunities for underrepresented students such as minorities, girls, and youth from low-income families to participate in activities that will help reduce achievement and attainment gaps in a manner consistent with nondiscrimination requirements contained in the U.S. Constitution and Federal civil rights laws. The Department also encourages expanding access to STEM education in rural areas, especially through partnerships with rural school districts to utilize virtual and remote access to makerspace technologies, such as 3-D printers, to expand opportunities for students in rural areas where such tools are often cost prohibitive.

Absolute Priority 3—Field-Initiated Innovations—Fostering Knowledge and Promoting the Development of Skills That Prepare Students To Be Informed, Thoughtful, and Productive Individuals and Citizens—is intended to advance innovation, build evidence, and address the learning and achievement of high-need students beginning in Pre-K through grade 12. The priority promotes skills that prepare students to be informed, thoughtful, and productive individuals and citizens and that are vital to maintaining a strong republic and to supporting the economic competitiveness of the United States. Through this priority, the Department responds to language in the explanatory statement for the FY 2020 Appropriations Act directing the Department to provide $65,000,000 in grants for social and emotional learning (SEL). The priority calls for projects that address various elements that have been identified as components of SEL in the research literature ¹ and incorporates priority 4 from the Secretary's Final Supplemental Priorities and Definitions for Discretionary Grant Programs, published in the Federal Register on March 2, 2018 (83 FR 9096) (Supplemental Priorities).

¹ The Aspen Institute (2017). “National Commission on Social, Emotional, and Academic Development. Retrieved from: https://www.aspeninstitute.org/programs/national-commission-on-social-emotional-and-academic-development/.

Belfield, C., Bowden, B., Klapp, A., Levin, H., Shand, R., & Zander, S. (2015). “The Economic Value of Social and Emotional learning.” The Center for Benefit-Cost Studies in Education. Retrieved from: http://www.casel.org/wp-content/uploads/2016/09/SEL-Revised.pdf.

Domitrovich, C.E., Durlak, J., Staley, K.C., & Weissberg, R.P. (2017). “Social-emotional Competence: An Essential Factor for Promoting Positive Adjustment and Reducing Risk in School Children.” Child Development, 88, 408-416. doi:10.1111/cdev.12739.

Jones, S., Brush, K., Bailey, R., Brion-Meisels, G., McIntyre, J., Kahn, J., Nelson, B., & Stickle, L. (2017). “Navigating Social and Emotional Learning from the Inside Out: Looking Inside and Across 25 Leading SEL programs: A Practical Resource for Schools and OST providers (elementary school focus).” Wallace Foundation. Retrieved from: https://www.wallacefoundation.org/knowledge-center/Documents/Navigating-Social-and-Emotional-Learning-from-the-Inside-Out.pdf.

Osher, D., Kidron, Y., Brackett, M., Dymnicki, A., Jones, S., & Weissberg, R.P. (2016). “Advancing the Science and Practice of Social and Emotional Learning: Looking Back and Moving Forward.” Review of Research in Education, 40, 644-681. doi: 10.3102/0091732X16673595.

Through these priorities, the Department intends to advance innovation, build evidence, and address the learning and achievement of high-need students beginning in Pre-K through grade 12.

Priorities: This notice includes three absolute priorities. In accordance with 34 CFR 75.105(b)(2)(ii), Absolute Priority 1 is from 34 CFR 75.226(d)(2). In accordance with 34 CFR 75.105(b)(2)(iv), Absolute Priorities 2 and 3 are from section 4611(a)(1)(A) of the ESEA and the Supplemental Priorities.

Under the Mid-phase grant competition, Absolute Priorities 2 and 3 constitute their own funding categories. The Secretary intends to award grants under each of these absolute priorities for which applications of sufficient quality are submitted. Because applications will be placed in rank order separately for Absolute Priorities 2 and 3, applicants must clearly identify the specific absolute priority that the proposed project addresses.

Absolute Priorities: For FY 2020 and any subsequent year in which we make awards from the list of unfunded applications from this competition, these priorities are absolute priorities. Under 34 CFR 75.105(c)(3), we consider only applications that meet Absolute Priority 1—Moderate Evidence, and one additional absolute priority.

These priorities are:

Absolute Priority 1—Moderate Evidence.

Under this priority, we provide funding to projects supported by evidence that meets the conditions in the definition of “moderate evidence.”

Note: An applicant must identify up to two study citations to be reviewed against the What Works Clearinghouse (WWC) Handbook (as defined in this notice) for the purposes of meeting the definition of “moderate evidence.” The studies may have been conducted by the applicant or by a third party. An applicant should clearly identify these citations in the Evidence form. The Department may not review a study citation that an applicant fails to clearly identify for review. In addition to including up to two study citations, applicants should describe in the form information such as the following: (1) The positive student outcomes they intend to replicate under their Mid-phase grant and how the characteristics of students and the positive student outcomes in the study citations correspond with the characteristics of the high-need students to be served under the Mid-phase grant; (2) the correspondence of practice(s) the applicant plans to implement with the practice(s) cited in the studies; and (3) the intended student outcomes that the proposed practice(s) attempts to impact.

An applicant must ensure that all citations are available to the Department from publicly available sources and provide links or other guidance indicating where it is available. If the Department determines that an applicant has provided insufficient information, the applicant will not have an opportunity to provide additional information at a later time. However, if the WWC determines that a study does not provide enough information on key aspects of the study design, such as sample attrition or equivalence of intervention and comparison groups, the WWC may submit a query to the study author(s) to gather information for use in determining a study rating. Authors would be asked to respond to queries within 10 business days. Should the author query remain incomplete within 14 days of the initial contact to the study author(s), the study may be deemed ineligible under the grant competition. After the grant competition closes, the WWC will, for purposes of its own curation of studies, continue to include responses to author queries and will make updates to study reviews as necessary. However, no additional information will be taken into account after the competition closes and the initial timeline established for response to an author query passes.

Absolute Priority 2—Field-Initiated Innovations—Promoting Science, Technology, Engineering, or Math (STEM) Education, With a Particular Focus on Computer Science.

Under the priority, we provide funding to projects that are designed to—

(1) Create, develop, implement, replicate, or take to scale entrepreneurial, evidence-based, field-initiated innovations to improve student achievement and attainment for high-need students; and

(2) Improve student achievement or other educational outcomes in one or more of the following areas: science, technology, engineering, math, or computer science.

Absolute Priority 3—Field-Initiated Innovations—Fostering Knowledge and Promoting the Development of Skills That Prepare Students To Be Informed, Thoughtful, and Productive Individuals and Citizens.

Under the priority, we provide funding to projects that are designed to—

(1) Create, develop, implement, replicate, or take to scale entrepreneurial, evidence-based, field-initiated innovations to improve student achievement and attainment for high-need students; and

(2) Improve student academic performance and better prepare students for employment, responsible citizenship, and fulfilling lives, including by preparing children or students to do one or more of the following:

(a) Develop positive personal relationships with others.

(b) Develop determination, perseverance, and the ability to overcome obstacles.

(c) Develop self-esteem through perseverance and earned success.

(d) Develop problem-solving skills.

(e) Develop self-regulation in order to work toward long-term goals.

Definitions: The definitions of “baseline,” “experimental study,” “logic model,” “moderate evidence,” “national level,” “nonprofit,” “performance measure,” “performance target,” “project component,” “quasi-experimental design study,” “regional level,” “relevant outcome,” “strong evidence,” and “What Works Clearinghouse Handbook (WWC Handbook)” are from 34 CFR 77.1. The definition of “computer science” is from the Supplemental Priorities. The definitions of “local educational agency” and “State educational agency” are from section 8101 of the ESEA.

Baseline means the starting point from which performance is measured and targets are set.

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbook:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Local educational agency (LEA) means:

(a) In General. A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the local educational agency receiving assistance under the ESEA with the smallest student population, except that the school shall not be subject to the jurisdiction of any State educational agency (as defined in this notice) other than the Bureau of Indian Education.

(d) Educational Service Agencies. The term includes educational service agencies and consortia of those agencies.

(e) State Educational Agency. The term includes the State educational agency in a State in which the State educational agency is the sole educational agency for all public schools.

Logic model (also referred to as a theory of action) means a framework that identifies key project components of the proposed project (i.e., the active “ingredients” that are hypothesized to be critical to achieving the relevant outcomes) and describes the theoretical and operational relationships among the key project components and relevant outcomes.

Moderate evidence means that there is evidence of effectiveness of a key project component in improving a relevant outcome for a sample that overlaps with the populations or settings proposed to receive that component, based on a relevant finding from one of the following:

(i) A practice guide prepared by the WWC using version 2.1 or 3.0 of the WWC Handbook reporting a “strong evidence base” or “moderate evidence base” for the corresponding practice guide recommendation;

(ii) An intervention report prepared by the WWC using version 2.1 or 3.0 of the WWC Handbook reporting a “positive effect” or “potentially positive effect” on a relevant outcome based on a “medium to large” extent of evidence, with no reporting of a “negative effect” or “potentially negative effect” on a relevant outcome; or

(iii) A single experimental study or quasi-experimental design study reviewed and reported by the WWC using version 2.1 or 3.0 of the WWC Handbook, or otherwise assessed by the Department using version 3.0 of the WWC Handbook, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1, or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

National level describes the level of scope or effectiveness of a process, product, strategy, or practice that is able to be effective in a wide variety of communities, including rural and urban areas, as well as with different groups (e.g., economically disadvantaged, racial and ethnic groups, migrant populations, individuals with disabilities, English learners, and individuals of each gender).

Nonprofit, as applied to an agency, organization, or institution, means that it is owned and operated by one or more corporations or associations whose net earnings do not benefit, and cannot lawfully benefit, any private shareholder or entity.

Performance measure means any quantitative indicator, statistic, or metric used to gauge program or project performance.

Performance target means a level of performance that an applicant would seek to meet during the course of a project or as a result of a project.

Project component means an activity, strategy, intervention, process, product, practice, or policy included in a project. Evidence may pertain to an individual project component or to a combination of project components (e.g., training teachers on instructional practices for English learners and follow-on coaching for these teachers).

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook.

Regional level describes the level of scope or effectiveness of a process, product, strategy, or practice that is able to serve a variety of communities within a State or multiple States, including rural and urban areas, as well as with different groups (e.g., economically disadvantaged, racial and ethnic groups, migrant populations, individuals with disabilities, English learners, and individuals of each gender). For an LEA-based project, to be considered a regional-level project, a process, product, strategy, or practice must serve students in more than one LEA, unless the process, product, strategy, or practice is implemented in a State in which the State educational agency is the sole educational agency for all schools.

Relevant outcome means the student outcome(s) or other outcome(s) the key project component is designed to improve, consistent with the specific goals of the program.

State educational agency (SEA) means the agency primarily responsible for the State supervision of public elementary schools and secondary schools.

Strong evidence means that there is evidence of the effectiveness of a key project component in improving a relevant outcome for a sample that overlaps with the populations and settings proposed to receive that component, based on a relevant finding from one of the following:

(i) A practice guide prepared by the WWC using version 2.1 or 3.0 of the WWC Handbook reporting a “strong evidence base” for the corresponding practice guide recommendation;

(ii) An intervention report prepared by the WWC using version 2.1 or 3.0 of the WWC Handbook reporting a “positive effect” on a relevant outcome based on a “medium to large” extent of evidence, with no reporting of a “negative effect” or “potentially negative effect” on a relevant outcome; or

(iii) A single experimental study reviewed and reported by the WWC using version 2.1 or 3.0 of the WWC Handbook, or otherwise assessed by the Department using version 3.0 of the WWC Handbook, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

What Works Clearinghouse Handbook (WWC Handbook) means the standards and procedures set forth in the WWC Procedures and Standards Handbook, Version 3.0 or Version 2.1 (incorporated by reference, see 34 CFR 77.2). Study findings eligible for review under WWC standards can meet WWC standards without reservations, meet WWC standards with reservations, or not meet WWC standards. WWC practice guides and intervention reports include findings from systematic reviews of evidence as described in the Handbook documentation.

Note: The What Works Clearinghouse Procedures and Standards Handbook (Version 3.0), as well as the more recent What Works Clearinghouse Handbooks released in October 2017 (Version 4.0) and January 2020 (Version 4.1), are available at https://ies.ed.gov/ncee/wwc/Handbooks.

Program Authority: Section 4611 of the ESEA, 20 U.S.C. 7261.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

Note: The regulations in 34 CFR part 86 apply to institutions of higher education (IHEs) only.

II. Award Information

Type of Award: Discretionary grants.

Estimated Available Funds: $178,600,000.

These estimated available funds are the total available for both types of grants under the FY 2020 EIR program (Early-phase and Mid-phase grants). Contingent upon the availability of funds and the quality of applications, we may make additional awards in subsequent years from the list of unfunded applications from this competition.

Estimated Average Size of Awards: Up to $8,000,000.

Maximum Award: We will not make an award exceeding $8,000,000 for a project period of 60 months.

Estimated Number of Awards: 16-20.

Note: The Department is not bound by any estimates in this notice.

Project Period: Up to 60 months. We anticipate that initial awards under this competition will be made for a three-year (36-month) period.

Contingent upon the availability of funds and each grantee's substantial progress towards accomplishing the goals and objectives of the project as described in its approved application, we may make continuation awards to grantees for the remainder of the project period.

Applicants must propose a budget that covers the entire project period of up to 60 months.

Note: Under section 4611(c) of the ESEA, the Department must use at least 25 percent of EIR funds for a fiscal year to make awards to applicants serving rural areas, contingent on receipt of a sufficient number of applications of sufficient quality. For purposes of this competition, we will consider an applicant as rural if the applicant meets the qualifications for rural applicants as described in the Eligible Applicants section and the applicant certifies that it meets those qualifications through the application.

In implementing this statutory provision and program requirement, the Department may fund high-quality applications from rural applicants and applications submitted under Absolute Priorities 2 and 3 out of rank order in the Mid-phase competition.

In addition, for FY 2020 Mid-phase competition, the Department intends to award an estimated $31 million in funds for STEM education projects (Absolute Priority 2) and $65 million in funds for SEL (Absolute Priority 3), contingent on receipt of a sufficient number of applications of sufficient quality.

III. Eligibility Information

1. Eligible Applicants:

(a) An LEA;

(b) An SEA;

(c) The Bureau of Indian Education (BIE);

(d) A consortium of SEAs or LEAs;

(e) A nonprofit organization; and

(f) An SEA, an LEA, a consortium described in (d), or the BIE, in partnership with—

(1) A nonprofit organization;

(2) A business;

(3) An educational service agency; or

(4) An IHE.

To qualify as a rural applicant under the EIR program, an applicant must meet both of the following requirements:

(a) The applicant is—

(1) An LEA with an urban-centric district locale code of 32, 33, 41, 42, or 43, as determined by the Secretary;

(2) A consortium of such LEAs;

(3) An educational service agency or a nonprofit organization in partnership with such an LEA; or

(4) A grantee described in clause (1) or (2) in partnership with an SEA; and

(b) A majority of the schools to be served by the program are designated with a locale code of 32, 33, 41, 42, or 43, or a combination of such codes, as determined by the Secretary.

Applicants are encouraged to retrieve locale codes from the National Center for Education Statistics School District search tool (https://nces.ed.gov/ccd/districtsearch/), where districts can be looked up individually to retrieve locale codes, and Public School search tool (https://nces.ed.gov/ccd/schoolsearch/), where individual schools can be looked up to retrieve locale codes. More information on rural applicant eligibility is in the application package.

If you are a nonprofit organization, under 34 CFR 75.51, you may demonstrate your nonprofit status by providing: (1) Proof that the Internal Revenue Service currently recognizes the applicant as an organization to which contributions are tax deductible under section 501(c)(3) of the Internal Revenue Code, (2) a statement from a State taxing body or the State attorney general certifying that the organization is a nonprofit organization operating within the State and that no part of its net earnings may lawfully benefit any private shareholder or individual, (3) a certified copy of the applicant's certificate of incorporation or similar document if it clearly establishes the nonprofit status of the applicant, or (4) any item described above if that item applies to a State or national parent organization, together with a statement by the State or parent organization that the applicant is a local nonprofit affiliate. In addition, any IHE is eligible to be a partner in an application where an LEA, SEA, BIE, consortium of SEAs or LEAs, or a nonprofit organization is the lead applicant that submits the application. A nonprofit organization, such as a development foundation, that is affiliated with a public IHE can apply for a grant. A public IHE that has 501(c)(3) status would also qualify as a nonprofit organization and could be a lead applicant for an EIR grant. A public IHE without 501(c)(3) status, or that could not provide any other documentation described in 34 CFR 75.51(b), however, would not qualify as a nonprofit organization, and therefore could not apply for and receive an EIR grant.

2. Cost Sharing or Matching: Under section 4611(d) of the ESEA, each grant recipient must provide, from Federal, State, local, or private sources, an amount equal to 10 percent of funds provided under the grant, which may be provided in cash or through in-kind contributions, to carry out activities supported by the grant. Grantees must include a budget showing their matching contributions to the budget amount of EIR grant funds and must provide evidence of their matching contributions for the first year of the grant in their grant applications. Section 4611(d) of the ESEA also authorizes the Secretary to waive this matching requirement on a case-by-case basis, upon a showing of exceptional circumstances, such as:

(a) The difficulty of raising matching funds for a program to serve a rural area;

(b) The difficulty of raising matching funds in areas with a concentration of LEAs or schools with a high percentage of students aged 5 through 17—

(1) Who are in poverty, as counted in the most recent census data approved by the Secretary;

(2) Who are eligible for a free or reduced price lunch under the Richard B. Russell National School Lunch Act (42 U.S.C. 1751 et seq.);

(3) Whose families receive assistance under the State program funded under part A of title IV of the Social Security Act (42 U.S.C. 601 et seq.); or

(4) Who are eligible to receive medical assistance under the Medicaid program; and

(c) The difficulty of raising funds on Tribal land.

Applicants that wish to apply for a waiver must include a request in their application that describes why the matching requirement would cause serious hardship or an inability to carry out project activities. Further information about applying for waivers can be found in the application package. However, given the importance of matching funds to the long-term success of the project, the Secretary expects eligible entities to identify appropriate matching funds.

3. Subgrantees: A grantee under this competition may not award subgrants to entities to directly carry out project activities described in its application.

4. Other: a. Funding Categories: An applicant will be considered for an award only for the type of EIR grant (i.e., Early-phase, Mid-phase, and Expansion grant) for which it applies. An applicant may not submit an application for the same proposed project under more than one type of grant.

Note: Each application will be reviewed under the competition it was submitted under in the Grants.gov system, and only applications that are successfully submitted by the established deadline will be peer reviewed. Applicants should be careful that they download the intended EIR application package and that they submit their applications under the intended EIR competition.

b. Evaluation: The grantee must conduct an independent evaluation of the effectiveness of its project.

c. High-need students: The grantee must serve high-need students.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Mid-phase competition, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative (Part III of the application) is where you, the applicant, address the selection criteria that reviewers use to evaluate your application. We recommend that you (1) limit the application narrative for a Mid-phase grant application to no more than 30 pages and (2) use the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

6. Notice of Intent to Apply: We will be able to develop a more efficient process for reviewing grant applications if we know the approximate number of applicants that intend to apply for funding under this competition. Therefore, the Secretary strongly encourages each potential applicant to notify us of the applicant's intent to submit an application by completing a web-based form. When completing this form, applicants will provide (1) the applicant organization's name and address and (2) which absolute priorities the applicant intends to address. Applicants may access this form online at www.surveymonkey.com/r/Z8FPDWV. Applicants that do not complete this form may still submit an application.

V. Application Review Information

1. Selection Criteria: The selection criteria for the Mid-phase competition are from 34 CFR 75.210. The points assigned to each criterion are indicated in the parentheses next to the criterion. An applicant may earn up to a total of 100 points based on the selection criteria for the application.

A. Significance (up to 10 points).

The Secretary considers the significance of the proposed project. In determining the significance of the proposed project, the Secretary considers the potential contribution of the proposed project to increased knowledge or understanding of educational problems, issues, or effective strategies.

B. Quality of the Project Design (up to 25 points).

The Secretary considers the quality of the design of the proposed project. In determining the quality of the design of the proposed project, the Secretary considers the following factors:

(1) The extent to which the goals, objectives, and outcomes to be achieved by the proposed project are clearly specified and measurable. (10 points)

(2) The extent to which the design of the proposed project is appropriate to, and will successfully address, the needs of the target population or other identified needs. (5 points)

(3) The extent to which the proposed activities constitute a coherent, sustained program of research and development in the field, including, as appropriate, a substantial addition to an ongoing line of inquiry. (5 points)

(4) The extent to which the proposed project will increase efficiency in the use of time, staff, money, or other resources in order to improve results and increase productivity. (5 points)

C. Strategy to Scale (up to 20 points).

The Secretary considers the applicant's strategy to scale the proposed project. In determining the applicant's capacity to scale the proposed project, the Secretary considers the following factors:

(1) The extent to which the applicant identifies a specific strategy or strategies that address a particular barrier or barriers that prevented the applicant, in the past, from reaching the level of scale that is proposed in the application. (10 points)

(2) The mechanisms the applicant will use to broadly disseminate information on its project so as to support further development or replication. (10 points)

D. Adequacy of Resources and Quality of the Management Plan (up to 25 points).

The Secretary considers the adequacy of resources and the quality of the management plan for the proposed project. In determining the adequacy of resources and quality of the management plan for the proposed project, the Secretary considers the following factors:

(1) The applicant's capacity (e.g., in terms of qualified personnel, financial resources, or management capacity) to bring the proposed project to scale on a national or regional level (as defined in 34 CFR 77.1(c)) working directly, or through partners, during the grant period. (10 points)

(2) The extent to which the costs are reasonable in relation to the objectives, design, and potential significance of the proposed project. (5 points)

(3) The potential for continued support of the project after Federal funding ends, including, as appropriate, the demonstrated commitment of appropriate entities to such support. (5 points)

(4) The adequacy of the management plan to achieve the objectives of the proposed project on time and within budget, including clearly defined responsibilities, timelines, and milestones for accomplishing project tasks. (5 points)

E. Quality of the Project Evaluation (up to 20 points).

The Secretary considers the quality of the evaluation to be conducted of the proposed project. In determining the quality of the evaluation, the Secretary considers the following factors:

(1) The extent to which the methods of evaluation will, if well implemented, produce evidence about the project's effectiveness that would meet the What Works Clearinghouse standards without reservations as described in the What Works Clearinghouse Handbook (as defined in this notice). (10 points)

(2) The extent to which the evaluation plan clearly articulates the key project components, mediators, and outcomes, as well as a measurable threshold for acceptable implementation. (5 points)

(3) The extent to which the methods of evaluation will provide valid and reliable performance data on relevant outcomes. (5 points)

Note: Applicants may wish to review the following technical assistance resources on evaluation: (1) WWC Procedures and Standards Handbooks: https://ies.ed.gov/ncee/wwc/Handbooks; (2) “Technical Assistance Materials for Conducting Rigorous Impact Evaluations”: http://ies.ed.gov/ncee/projects/evaluationTA.asp; and (3) IES/NCEE Technical Methods papers: http://ies.ed.gov/ncee/tech_methods/. In addition, applicants may view an optional webinar recording that was hosted by the Institute of Education Sciences. The webinar focused on more rigorous evaluation designs, discussing strategies for designing and executing experimental studies that meet WWC evidence standards without reservations. This webinar is available at: http://ies.ed.gov/ncee/wwc/Multimedia/18.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments.

Peer reviewers will read, prepare a written evaluation of, and score the assigned applications, using the selection criteria provided in this notice.

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20(c).

Note: The evaluation report is a specific deliverable under a Mid-phase grant that grantees must make available to the public. Additionally, EIR grantees are encouraged to submit final studies resulting from research supported in whole or in part by EIR to the Educational Resources Information Center (http://eric.ed.gov).

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: The overall purpose of the EIR program is to expand the implementation of, and investment in, innovative practices that are demonstrated to have an impact on improving student achievement and attainment for high-need students. We have established several performance measures (as defined in this notice) for the Mid-phase grants.

Annual performance measures: (1) The percentage of grantees that reach their annual target number of students as specified in the application; (2) the percentage of grantees that reach their annual target number of high-need students as specified in the application; (3) the percentage of grantees with ongoing well-designed and independent evaluations that will provide evidence of their effectiveness at improving student outcomes in multiple contexts; (4) the percentage of grantees that implement an evaluation that provides information about the key practices and the approach of the project so as to facilitate replication; (5) the percentage of grantees that implement an evaluation that provides information on the cost-effectiveness of the key practices to identify potential obstacles and success factors to scaling; and (6) the cost per student served by the grant.

Cumulative performance measures: (1) The percentage of grantees that reach the targeted number of students specified in the application; (2) the percentage of grantees that reach the targeted number of high-need students specified in the application; (3) the percentage of grantees that implement a completed well-designed, well-implemented and independent evaluation that provides evidence of their effectiveness at improving student outcomes at scale; (4) the percentage of grantees with a completed well-designed, well-implemented, and independent evaluation that provides information about the key elements and the approach of the project so as to facilitate replication or testing in other settings; (5) the percentage of grantees with a completed evaluation that provided information on the cost-effectiveness of the key practices to identify potential obstacles and success factors to scaling; and (6) the cost per student served by the grant.

Project-Specific Performance Measures: Applicants must propose project-specific performance measures and performance targets (as defined in this notice) consistent with the objectives of the proposed project. Applications must provide the following information as directed under 34 CFR 75.110(b) and (c):

(1) Performance measures. How each proposed performance measure would accurately measure the performance of the project and how the proposed performance measure would be consistent with the performance measures established for the program funding the competition.

(2) Baseline (as defined in this notice) data. (i) Why each proposed baseline is valid; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

(4) Data collection and reporting. (i) The data collection and reporting methods the applicant would use and why those methods are likely to yield reliable, valid, and meaningful performance data; and (ii) the applicant's capacity to collect and report reliable, valid, and meaningful performance data, as evidenced by high-quality data collection, analysis, and reporting in other projects or research.

All grantees must submit an annual performance report with information that is responsive to these performance measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-07556 Filed 4-9-20; 8:45 am]

BILLING CODE 4000-01-P